DEPARTMENT OF THE INTERIOR

Fish and Wildlife Services

Information Collection To Be Submitted to the Office of Management and Budget (OMB) for Approval Under the Paperwork Reduction Act

AGENCY: Fish and Wildlife Service, Interior.

ACTION: Notice; request for comments.

SUMMARY: The U.S. Fish and Wildlife Service will submit the collection of information listed below to OMB for approval under the provisions of the Paperwork Reduction Act. A copy of the information collection requirement is included in this notice. If you wish to obtain copies of the proposed information collection requirement, related forms, and explanatory material, contact the Service Information Collection Clearance Officer at the address listed below.

DATES: You must submit comments on or before December 26, 2000.

ADDRESSES: Send your comments on the requirements to the Information Collection Officer, U.S. Fish and Wildlife Service, MS 222-ARLSQ, 1849 C Street, NW., Washington, DC 20240.

FOR FURTHER INFORMATION CONTACT: To request a copy of the information collection request, explanatory information and related forms, contact Rebecca A. Mullin at (703) 358-2287, or electronically to rmullin@fws.gov.

SUPPLEMENTARY INFORMATION: The Office of Management and Budget (OMB) regulations at 5 CFR 1320, which implement provisions of the Paperwork Reduction Act of 1995 (Pub. L. 104-13), require that interested members of the public and affected agencies have an opportunity to comment on information collection and recordkeeping activities (see 5 CFR 1320.8(d)). The U.S. Fish and Wildlife Service (We) plan to submit a request to OMB for its approval of the collection of information for the U.S. Fish and Wildlife Employee Exit Survey. We are requesting a 3-year term of approval for this information collection activity.

Federal agencies may not conduct or sponsor, and a person is not required to respond to, a collection of information unless it displays a currently valid OMB control number. The U.S. Fish and Wildlife form number for this collection of information is FWS 3-2186.

The U.S. Fish and Wildlife Service in the Department of the Interior is the agency primarily responsible for fish, wildlife, and plant conservation. The Service helps protect a healthy environment for people, fish and wildlife, and helps Americans conserve and enjoy the outdoors and our living treasures. To accomplish its mission, the Service employs around 7,500 of the country's best biologists, wildlife managers, engineers, realty specialists, educators, law enforcement agents, and others who work to save endangered and threatened species; conserve migratory birds and inland fisheries; restore habitats; provide expert conservation advice to other federal agencies, industry, private citizens, and foreign governments; and manage millions of acres of wildlife lands. The Service Directorate has made it a high priority to recruit and retain these valued employees. As part of an active career development program, the Service has decided to institute an Employee Exist Survey to collect feedback from former Service employees so that we may discover relevant issues that impact retention. If this survey were not used, there would be no way the Service could analyze the reasons for employee separation.

Title: U.S. Fish and Wildlife Service Employee Exit Survey.

Service Form Number: 3-2186.

Frequency of Collection: Annually.

Description of Respondents: Former U.S. Fish and Wildlife Employees.

Total Annual Burden Hours: The reporting burden is estimated to average 15 minutes per respondent.

The Total Annual Burden hours is 100 hours.

Total Annual Responses: About 400 individuals are expected to participate in the survey.

We invite comments concerning this submission on: (1) whether the collection of information is necessary for the proper performance of our career development functions, including whether the information will have practical utility; (2) the accuracy of our estimate of the burden of the collection of information; (3) ways to enhance the quality, utility, and clarity of the information to be collected; and, (4) ways to minimize the burden of the collection of information on respondents. The information collections in this program are part of a system of record covered by the Privacy Act (5 U.S.C. 552(a)).

Dated: October 18, 2000.
Rebecca A. Mullin,
U.S. Fish & Wildlife Service Collection Officer.

[FR Doc. 00-27219 Filed 10-23-00; 8:45 am]

BILLING CODE 4310-SS-M